DEPARTMENT OF HEALTH AND HUMAN SERVICES

Health Resources and Services Administration

National Advisory Committee on Rural Health and Human Services

AGENCY: Health Resources and Services Administration (HRSA), Department of Health and Human Services (HHS).

ACTION: Notice.

SUMMARY: In accordance with the Federal Advisory Committee Act, this notice announces that the Secretary's National Advisory Committee on Rural Health and Human Services (NACRHHS) has scheduled a public meeting. Information about NACRHHS and the agenda for this meeting can be found on the NACRHHS website at https://www.hrsa.gov/advisory-committees/rural-health/index.html.

DATES: July 30, 2020, 12:00 p.m.-5:00 p.m. Eastern Time.

ADDRESSES: The meeting scheduled on July 30, 2020, will be held by teleconference/webinar. Instructions for joining the meeting remotely will be posted on the NACRHHS website 30 calendar days before the date of the meeting. For meeting information updates, go to the NACRHHS website meeting page at https://www.hrsa.gov/advisory-committees/rural-health/meetings/index.html.

FOR FURTHER INFORMATION CONTACT: Steven Hirsch, Administrative Coordinator at the Federal Office of Rural Health Policy, HRSA, 5600 Fishers Lane, Rockville, Maryland 20857; 301-443-7322; or shirsch@hrsa.gov.

SUPPLEMENTARY INFORMATION: NACRHHS provides advice and recommendations to the Secretary of HHS (Secretary) on policy, program development, and other matters of significance concerning both rural health and rural human services.

At this meeting, NACRHHS will discuss the development of a vision statement that emphasizes rural community transformation, sustainable services, and resiliency. By focusing on this vision, NACRHHS will define what it wants to accomplish and how to articulate a policy framework that informs the HHS leadership and empowers rural communities. The intent is to use this process to create a path forward that would help NACRHHS identify policies that empower rural communities to ensure access to core health and human service needs that are focused on local residents and are seen as an essential part of the economic fabric.

Members of the public will have the opportunity to provide comments. Public participants may submit written statements in advance of the scheduled meeting. Requests to submit a written statement or make oral comments to NACRHHS should be sent to Steven Hirsch, using the contact information above, at least 3 business days prior to the meeting.

Individuals who plan to attend the teleconference/webinar meeting and need special assistance or another reasonable accommodation should notify Steven Hirsch at the address and phone number listed above at least 10 business days prior to the meeting.

Maria G. Button,
Director, Executive Secretariat.

[FR Doc. 2020-13670 Filed 6-24-20; 8:45 am]

BILLING CODE 4165-15-P